POSTAL SERVICE BOARD OF GOVERNORS

Sunshine Act Meeting

Times and Date: Monday, June 2, 2003; 10:30 a.m. and 3 p.m.

Place: Washington, DC, at U.S. Postal Service Headquarters, 475 L'Enfant Plaza, SW., in the Benjamin Franklin Room.

Status: June 2—10:30 a.m. (Closed); 3 p.m. (Open).

Matters to Be Considered: Monday, June 2—10:30 a.m. (Closed)

1. Strategic Planning.

2. Postal Rate Commission Opinion and Recommended Decision in Docket No. MC2002-2, Experimental Rate and Service Changes to Implement Negotiated Service Agreement with Capital One Services, Inc.

3. Financial Update.

4. Personnel Matters and Compensation Issues.

Monday, June 2—3 p.m. (Open)

1. Minutes of the Previous Meeting, May 5-6, 2003.

2. Remarks of the Postmaster General and CEO.

3. Quarterly Report on Financial Performance.

4. Capital Investment.

a. Sales Support Solution.

5. Tentative Agenda for the August 4-5, 2003, meeting in Portland, Maine.

Contact Person for More Information; William T. Johnstone, Secretary of the Board, U.S. Postal Service, 475 L'Enfant Plaza SW., Washington, DC. 20260-1000. Telephone (202) 268-4800.

William T. Johnstone,
Secretary

[FR Doc. 03-13080 Filed 5-22-03; 4:24 pm]

BILLING CODE 7710-12-M